DEPARTMENT OF ENERGY

Federal Energy Regulatory Commission

Combined Notice of Filings #1

Take notice that the Commission received the following electric rate filings:

Docket Numbers: ER10-2984-014.

Applicants: Merrill Lynch Commodities, Inc.

Description: Notice of Non-Material Change in Status of Merrill Lynch Commodities, Inc.

Filed Date: 10/31/13.

Accession Number: 20131031-5303.

Comments Due: 5 p.m. ET 11/21/13.

Docket Numbers: ER10-2985-014.

Applicants: Champion Energy Marketing LLC, Champion Energy Services, LLC, Champion Energy, LLC.

Description: Notice of Change in Status of Champion Energy Marketing LLC, et. al.

Filed Date: 10/31/13.

Accession Number: 20131031-5322.

Comments Due: 5 p.m. ET 11/21/13.

Docket Numbers: ER14-96-001.

Applicants: Healthy Planet Partners Energy Company.

Description: Healthy Planet Partners Energy Company submits tariff filing per 35.17(b): HPP_MBRA_Amendment to be effective 1/15/2014.

Filed Date: 11/1/13.

Accession Number: 20131101-5002.

Comments Due: 5 p.m. ET 11/22/13.

Docket Numbers: ER14-250-000.

Applicants: Deseret Generation & Transmission Co-operative, Inc.

Description: Deseret Generation & Transmission Co-operative, Inc. submits tariff filing per 35.13(a)(2)(iii: Northern Tier Transmission Group Funding Agreement to be effective 1/1/2014.

Filed Date: 10/31/13.

Accession Number: 20131031-5248.

Comments Due: 5 p.m. ET 11/21/13.

Docket Numbers: ER14-251-000.

Applicants: NorthWestern Corporation.

Description: NorthWestern Corporation submits tariff filing per 35.13(a)(2)(iii: Northern Tier Transmission Group Funding Agreement 2014-2015 to be effective 1/1/2014.

Filed Date: 10/31/13.

Accession Number: 20131031-5250.

Comments Due: 5 p.m. ET 11/21/13.

Docket Numbers: ER14-252-000.

Applicants: Midcontinent Independent System Operator, Inc.

Description: Midcontinent Independent System Operator, Inc. submits tariff filing per 35.13(a)(2)(iii: 2013-10-31 SA 2078 Northern State Power-Sibley to be effective 11/1/2013.

Filed Date: 10/31/13.

Accession Number: 20131031-5253.

Comments Due: 5 p.m. ET 11/21/13.

Docket Numbers: ER14-253-000.

Applicants: PacifiCorp.

Description: PacifiCorp submits tariff filing per 35.13(a)(2)(iii: NTTG Funding Agreement 2014-2015 to be effective 1/1/2014.

Filed Date: 10/31/13.

Accession Number: 20131031-5263.

Comments Due: 5 p.m. ET 11/21/13.

Docket Numbers: ER14-254-000.

Applicants: Midcontinent Independent System Operator, Inc.

Description: Midcontinent Independent System Operator, Inc. submits tariff filing per 35.13(a)(2)(iii: 2013-10-31 Ameren-Dynegy (IP-DMG IA) J232 to be effective 11/2/2013.

Filed Date: 11/1/13.

Accession Number: 20131101-5003.

Comments Due: 5 p.m. ET 11/22/13.

Docket Numbers: ER14-255-000.

Applicants: Southern California Edison Company.

Description: Southern California Edison Company submits tariff filing per 35.13(a)(2)(iii: IFA with City of Moreno Valley for San Michele Rd WDAT Project to be effective 11/2/2013.

Filed Date: 11/1/13.

Accession Number: 20131101-5005.

Comments Due: 5 p.m. ET 11/22/13.

Docket Numbers: ER14-256-000.

Applicants: Midcontinent Independent System Operator, Inc.

Description: Midcontinent Independent System Operator, Inc. submits tariff filing per 35.13(a)(2)(iii: 10-31-2013 SA2541 Dynegy-Ameren GIA to be effective 11/2/2013.

Filed Date: 11/1/13.

Accession Number: 20131101-5006.

Comments Due: 5 p.m. ET 11/22/13.

Docket Numbers: ER14-257-000.

Applicants: PJM Interconnection, L.L.C.

Description: Notice of cancellation of Original Service Agreement No. 2371, Queue No. Q41 of PJM Interconnection, L.L.C.

Filed Date: 10/31/13.

Accession Number: 20131031-5294.

Comments Due: 5 p.m. ET 11/21/13.

Docket Numbers: ER14-258-000.

Applicants: Western Massachusetts Electric Company, ISO New England Inc.

Description: Western Massachusetts Electric Company submits tariff filing per 35.13(a)(2)(iii: Elim of Unreserved Use Penalties—NU Sch 21 to be effective 1/1/2014.

Filed Date: 11/1/13.

Accession Number: 20131101-5020.

Comments Due: 5 p.m. ET 11/22/13.

Docket Numbers: ER14-259-000.

Applicants: PPL EnergyPlus, LLC,PPL Renewable Energy, LLC.

Description: Request for Waiver of PPL EnergyPlus, LLC, et. al.

Filed Date: 10/31/13.

Accession Number: 20131031-5327.

Comments Due: 5 p.m. ET 11/21/13.

Docket Numbers: ER14-260-000.

Applicants: Midcontinent Independent System Operator, Inc.

Description: Midcontinent Independent System Operator, Inc. submits tariff filing per 35.13(a)(2)(iii: 11-1-13 Attachment O-2 Cleanup to be effective 1/2/2014.

Filed Date: 11/1/13.

Accession Number: 20131101-5034.

Comments Due: 5 p.m. ET 11/22/13.

Docket Numbers: ER14-261-000.

Applicants: Midcontinent Independent System Operator, Inc.

Description: Midcontinent Independent System Operator, Inc. submits tariff filing per 35.13(a)(2)(iii: 11-01-13 Att GG and MM Name Change to be effective 1/2/2014.

Filed Date: 11/1/13.

Accession Number: 20131101-5035.

Comments Due: 5 p.m. ET 11/22/13.

Docket Numbers: ER14-262-000.

Applicants: Wabash Valley Power Association, Inc.

Description: Wabash Valley Power Association, Inc. submits tariff filing per 35.13(a)(2)(iii: Amendments to Rate Schedule—Jasper County REMC to be effective 1/1/2014.

Filed Date: 11/1/13.

Accession Number: 20131101-5036.

Comments Due: 5 p.m. ET 11/22/13.

Take notice that the Commission received the following electric securities filings:

Docket Numbers: ES14-9-000.

Applicants: FirstEnergy Service Company, Jersey Central Power & Light, Metropolitan Edison Company, Monongahela Power Company, Pennsylvania Electric Company, Pennsylvania Power Company, West Penn Power Company, Trans-Allegheny Interstate Line Company, The Potomac Edison Company.

Description: Application for Authorization of FirstEnergy Service Company on Behalf of the FirstEnergy Applicants under Section 204(a) of the Federal Power Act to Issue Short-Term Debt Securities.

Filed Date: 10/31/13.

Accession Number: 20131031-5333.

Comments Due: 5 p.m. ET 11/21/13.

Take notice that the Commission received the following land acquisition reports:

Docket Numbers: LA13-3-000.

Applicants: Duke Energy Corporation.

Description: Quarterly Land Acquisition Report of the Duke Energy MBR Affiliates under LA13-3.

Filed Date: 10/31/13.

Accession Number: 20131031-5323.

Comments Due: 5 p.m. ET 11/21/13.

Docket Numbers: LA13-3-000.

Applicants: EC&R O&M, LLC, E.ON Global Commodities North America LLC, Munnsville Wind Farm, LLC, Pioneer Trail Wind Farm, LLC, Settlers Trail Wind Farm, LLC, Stony Creek Wind Farm, LLC, Wildcat Wind Farm I, LLC.

Description: Quarterly Land Acquisition Report of the E.ON Sellers under LA13-3.

Filed Date: 10/31/13.

Accession Number: 20131031-5324.

Comments Due: 5 p.m. ET 11/21/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 1, 2013.
Nathaniel J. Davis, Sr.,
Deputy Secretary.

[FR Doc. 2013-26771 Filed 11-7-13; 8:45 am]

BILLING CODE 6717-01-P